DEPARTMENT OF COMMERCE

National Oceanic and Atmospheric Administration

[RTID 0648-XE538]

Determination of Overfishing or an Overfished Condition

AGENCY: National Marine Fisheries Service (NMFS), National Oceanic and Atmospheric Administration (NOAA), Commerce.

ACTION: Notice.

SUMMARY: This action serves as a notice that NMFS, on behalf of the Secretary of Commerce (Secretary), has found that Puerto Rico Caribbean spiny lobster and Mid-Atlantic Coast golden tilefish are now subject to overfishing, Klamath River fall Chinook salmon and Queets Spring/Summer Chinook salmon continue to be overfished, and the Western and Central North Pacific Ocean Striped Marlin continues to be subject to overfishing. NMFS, on behalf of the Secretary, is required to provide this notice whenever it determines that a stock or stock complex is subject to overfishing, overfished, or approaching an overfished condition.

FOR FURTHER INFORMATION CONTACT: Diana Perry, (301) 427-7863.

SUPPLEMENTARY INFORMATION: Pursuant to section 304(e)(2) of the Magnuson-Stevens Fishery Conservation and Management Act, 16 U.S.C. 1854(e)(2), NMFS, on behalf of the Secretary, must notify councils, and publish a notice in the Federal Register, whenever it determines that a stock or stock complex is subject to overfishing, overfished, or approaching an overfished condition.

NMFS has determined that Puerto Rico Caribbean spiny lobster is now subject to overfishing. This determination is based on the most recent assessment completed in 2022 and using data through 2021 that found that the fishing mortality rate (F) exceeds the maximum fishing mortality threshold (MFMT). NMFS has notified the Caribbean Fishery Management Council of its requirement to end overfishing on this stock.

NMFS has determined that Mid-Atlantic Coast golden tilefish is now subject to overfishing. This determination is based on the most recent assessment completed in 2024 using data through 2023, which found that the F exceeds the MFMT. NMFS has notified the Mid-Atlantic Fishery Management Council of its requirement to end overfishing.

NMFS has determined that Klamath River fall-run Chinook salmon and Queets Spring/Summer Chinook salmon continue to be overfished. These determinations are based on the 3-year geometric mean of the annual spawning escapement for each stock completed in 2024, and using data from 2021-2023 for the Klamath River fall-run Chinook salmon stock and data from 2020-2022 for the Queets spring/summer Chinook salmon stock which fall below their respective minimum stock size threshold. NMFS continues to work with the Pacific Fishery Management Council to rebuild the Klamath River fall-run Chinook and Queets spring/summer Chinook salmon stocks.

NMFS has determined that Western and Central North Pacific Ocean Striped Marlin continues to be subject to overfishing. This determination is based on the most recent international stock assessment, completed in 2023 and using data through 2020, which indicates that F exceeds the MFMT. NMFS continues to work with the Western and Central Pacific Fisheries Commission to end overfishing.

Dated: December 18, 2024.
Kelly Denit,
Director, Office of Sustainable Fisheries, National Marine Fisheries Service.

[FR Doc. 2024-30640 Filed 12-23-24; 8:45 am]

BILLING CODE 3510-22-P